DEPARTMENT OF HOMELAND SECURITY

Coast Guard

33 CFR Part 117

[CGD11-06-047]

RIN 1625-AA09

Drawbridge Operation Regulations; Steamboat Slough, Near Paintersville, CA

AGENCY: Coast Guard, DHS.

ACTION: Notice of temporary deviation from regulations.

SUMMARY: The Commander, Eleventh Coast Guard District, has issued a temporary deviation from the regulation governing the operation of the Steamboat Slough Drawbridge across Steamboat Slough, mile 11.2, near Paintersville, CA. This deviation allows the bridge to remain in the closed-to-navigation position during the deviation period. The deviation is necessary for the bridge owner, the California Department of Transportation (Caltrans), to refurbish and replace aging operating machinery.

DATES: This deviation is effective from 7 a.m. on January 16, 2007 to 5 p.m. on January 25, 2007.

ADDRESSES: Materials referred to in this document are available for inspection or copying at Commander (dpw), Eleventh Coast Guard District, Building 50-2, Coast Guard Island, Alameda, CA 94501-5100, between 8 a.m. and 4 p.m., Monday through Friday, except Federal holidays.

FOR FURTHER INFORMATION CONTACT: David H. Sulouff, Chief, Bridge Section, Eleventh Coast Guard District, telephone (510) 437-3516.

SUPPLEMENTARY INFORMATION: Caltrans requested a temporary change to the operation of the Steamboat Slough Drawbridge, mile 11.2, over Steamboat Slough, near Paintersville, CA. The Steamboat Slough Drawbridge's navigation span provides a vertical clearance of 20 feet above Mean High Water in the closed-to-navigation position. The draw opens on signal if at least 4 hours notice is given as required by 33 CFR 117.199. Navigation on the waterway is recreational, search and rescue, and commercial traffic hauling materials for levee repair. Caltrans requested to secure the drawspan in the closed to navigation position from 7 a.m. on January 16, 2007 to 5 p.m. on January 25, 2007. During this time the drawspan motors will be refurbished and the control house replaced to ensure the continuing operation of the drawspan. This temporary deviation has been coordinated with waterway users. Caltrans has reduced the period of time the bridge will be closed to navigation to reduce the impact to levee repair in the area. Vessels that can transit the bridge while in the closed-to-navigation position may continue to do so at any time.

In accordance with 33 CFR 117.35(c), this work will be performed with all due speed in order to return the bridge to normal operation as soon as possible. This deviation from the operating regulations is authorized under 33 CFR 117.35.

Dated: December 29, 2006.
R.C. Lorigan,
Captain, U.S. Coast Guard, Acting Commander, Eleventh Coast Guard District.

[FR Doc. E7-152 Filed 1-9-07; 8:45 am]

BILLING CODE 4910-15-P